DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold a joint meeting of its Hawaii Regional Ecosystem Advisory Committee (REAC), Hawaii Advisory Panel (AP), and Hawaii members of its Noncommercial Fishing Advisory Committee (NCFAC) and a Hawaii AP meeting to discuss and make recommendations on issues in Hawaii and the Western Pacific region.

DATES: The joint Hawaii REAC, AP and NCFAC meeting will be held on Wednesday, May 11, 2016, between 9 a.m. and 12:00 p.m. The Hawaii AP meeting will be held on Wednesday, May 11, 2016, between 1 p.m. and 4 p.m. For agendas, see SUPPLEMENTARY INFORMATION.

ADDRESSES: The joint Hawaii REAC, AP and NCFAC meeting and the Hawaii AP meeting will be held at the Council office, 1164 Bishop St. Honolulu, HI 96813; phone: (808) 522-8220.

FOR FURTHER INFORMATION CONTACT: Kitty M. Simonds, Executive Director, phone: (808) 522-8220.

SUPPLEMENTARY INFORMATION: Public comment periods will be provided throughout the agendas. The order in which agenda items are addressed may change. The meetings will run as late as necessary to complete scheduled business.

Agenda for the Joint Hawaii AP, REAC and NCFAC Meeting

Wednesday, May 11, 2016, 9 a.m.-12 p.m.

1. Welcome and Introductions

2. Report on Changes to the Pelagic and Archipelagic Annual Fisheries Reports

3. Review of Annual Report Fishery Performance Information

A. Bottomfish

B. Coral Reef

C. Crustaceans

D. Precious Corals

E. Pelagics

4. Review of Annual Report Ecosystem Considerations Information and Data Gaps

A. Habitat

B. Protected Species

C. Human Dimensions

D. Climate Variables

E. Marine Planning

F. Data Integration

5. Report on FEP Implementation Activities

6. Public Comment

7. Discussion and Recommendations

Agenda for the Hawaii AP meeting

Wednesday, May 11, 2016, 1 p.m.-4 p.m.

1. Welcome and Introductions

2. Hawaii FEP Community Activities

3. Hawaii FEP AP Issues

A. Island Fisheries

B. Pelagic Fisheries

C. Ecosystems and Habitat

D. Indigenous and Fishing Communities

E. Other Issues

6. Public Comment

7. Discussion and Recommendations

8. Other Business

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 21, 2016.
Tracey L. Thompson,
Acting Deputy Director, Office of Sustainable Fisheries, National Marine Fisheries Service.

[FR Doc. 2016-09655 Filed 4-25-16; 8:45 am]

BILLING CODE 3510-22-P